DEPARTMENT OF JUSTICE

National Institute of Corrections

Advisory Board Meeting

Time and Date: 8 a.m. to 5 p,m. on Monday, March 8, 2004, 8 a.m. to 12 noon on Tuesday, March 9, 2004.

Place: The Drake Hotel, 140 East Walton Place, Chicago, Illinois 60611.

Status: Open.

Matters To Be Considered: Strategic planning Update; Safe Foundation Site Visit and Briefing: Division Reports; and Quarterly Report by Office of Justice Programs.

FOR FURTHER INFORMATION CONTACT: Larry Solomon, Deputy Director, (202) 307-3106, ext. 44254.

Morris L. Thigpen,
Director.

[FR Doc. 04-1641 Filed 1-26-04; 8:45 am]

BILLING CODE 4410-36-M